DEPARTMENT OF HEALTH AND HUMAN SERVICES

Centers for Disease Control and Prevention

[30Day-20-0853]

Agency Forms Undergoing Paperwork Reduction Act Review

In accordance with the Paperwork Reduction Act of 1995, the Centers for Disease Control and Prevention (CDC) has submitted the information collection request titled “Asthma Information Reporting System (AIRS)” to the Office of Management and Budget (OMB) for review and approval. CDC previously published a “Proposed Data Collection Submitted for Public Comment and Recommendations” notice on December 6, 2019 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Asthma Information and Reporting System (AIRS) (OMB Control No. 0920-0853, Exp. 5/31/2020)—Revision—National Center for Environmental Health (NCEH), Centers for Disease Control and Prevention (CDC).

Background and Brief Description

In 1999, the CDC began its National Asthma Control Program (NACP), a public health approach to address the burden of asthma. The program supports the proposed objectives of “Healthy People 2030” for asthma and is based on the public health principles of surveillance, partnerships, interventions, and evaluation. The CDC requests a three-year approval to revise the “Asthma Information Reporting System (AIRS)” (OMB Control No. 0920-0853; Expiration Date 5/31/2020). Specifically, CDC seeks to make the following changes:

• Increase the number of respondents from 25 to 30.

• Increase the burden from 89 hours to 105 hours.

• Reduce and consolidate the required performance measures (PMs), from 18 to eight core measures.

• Change the collection method for receipt of PMs from an Excel spreadsheet to a newly developed electronic reporting tool (SharePoint site).

• Include instructions for the newly developed electronic reporting tool that will be utilized to report the eight core PMs.

• Change the collection method for receipt of surveillance data, from uploading to a SharePoint site to submitting by email to a dedicated mailbox.

• Update the estimated annualized cost to the government to reflect current funding for the cooperative agreement, updated salaries for staff, and contractor costs for development of the new electronic reporting tool.

The three-year approval will allow CDC to continue to monitor states' program planning and delivery of public health activities and the programs' collaboration with health care systems through a new five-year cooperative agreement—A Comprehensive Public Health Approach to Asthma Control Through Evidence-Based Interventions (CDC-RFA-EH19-1902).

The goal of this data collection is to provide NCEH with routine information about the activities and performance of the state, local and territorial recipients funded under the NACP through an annual reporting system. NACP requires recipients to report activities related to partnerships, infrastructure, evaluation and interventions to monitor the programs' performance in reducing the burden of asthma. AIRS also includes two forms to collect aggregate emergency department (ED) visits and hospital discharge (HD) data from recipients.

AIRS was first approved by OMB in 2010 to collect data in a web-based system to monitor and guide participating state health departments. Since implementation in 2010, AIRS and the technical assistance provided by CDC staff have provided states with uniform data reporting methods and linkages to other states' asthma program information and resources. Thus, AIRS has saved state resources and staff time when asthma programs embark on asthma activities similar to those conducted elsewhere.

In the past three years, AIRS data was used to:

• Serve as a resource to NCEH when addressing congressional, departmental and institutional inquiries.

• Help the branch align its current interventions with CDC goals and allowed the monitoring of progress toward these goals.

• Allow the NACP and the state asthma programs to make more informed decisions about activities to achieve objectives.

• Facilitate communication about interventions across states and enable inquiries regarding interventions by populations with a disproportionate burden, age groups, geographic areas and other variables of interest.

• Provide feedback to the grantees about their performance relative to others through the distribution of two written reports and several presentations (webinar and in-person) summarizing the results.

• Customize and provide technical assistance and support materials to address implementation challenges.

There will be no cost to respondents other than their time to complete the PM Reporting Tool, ED Visits Reporting Form, and HD Reporting Form, on an annual basis. The estimated annualized time burden is 105 hours.

Estimated Annualized Burden Hours
Type of respondents | Form name | Number of respondents | Number of responses per respondent | Average burden per response (in hours)
Funded Asthma Program Recipients | Performance Measures Reporting Tool | 30 | 1 | 150/60
| Emergency Department Visits Reporting Form | 30 | 1 | 30/60
| Hospital Discharge Reporting Form | 30 | 1 | 30/60

Jeffrey M. Zirger,
Lead, Information Collection Review Office, Office of Scientific Integrity, Office of Science, Centers for Disease Control and Prevention.

[FR Doc. 2020-04720 Filed 3-6-20; 8:45 am]

BILLING CODE 4163-18-P